DEPARTMENT OF THE INTERIOR

National Park Service

[NPS-SERO-CAHA-18133; PPSESEROC3, PPMPSAS1Y.YP0000]

Environmental Impact Statement for a Special Use Permit to Dare County for Activities Related to the Protection of North Carolina Highway 12 in Cape Hatteras National Seashore, North Carolina

AGENCY: National Park Service, Interior.

ACTION: Notice of termination of environmental impact statement.

SUMMARY: The National Park Service (NPS) is terminating preparation of an environmental impact statement (EIS) for a Special Use Permit to Dare County for Activities Related to the Protection of North Carolina Highway 12 in Cape Hatteras National Seashore, North Carolina. Instead, the NPS will be preparing an environmental assessment (EA) to assist the NPS in determining whether, where, and under what conditions the NPS would issue a Special Use Permit to Dare County for actions related to the protection of Highway 12 in the Buxton Village area.

ADDRESSES: Cape Hatteras National Seashore, 1401 National Park Road, Manteo, North Carolina 27954.

FOR FURTHER INFORMATION CONTACT: Dave Hallac, Park Superintendent at the address shown above, by phone at (252) 475-9000.

SUPPLEMENTARY INFORMATION: A Notice of Intent to prepare an EIS to consider a Special Use Permit to Dare County for Activities Related to the Protection of North Carolina Highway 12 was published in the Federal Register on December 29, 2014 (79 FR 78106, Pages 78106-78107). The NPS then engaged in a scoping process which included public meetings and consultation with federal agencies, and the initial development of a range of management alternatives with preliminary environmental impact assessment. Preliminary analysis of the alternatives shows there is no potential for significant impacts to park resources and values and no concerns or issues were expressed during the public scoping process that would have the potential for highly controversial impacts. For these reasons, the NPS determined the proposal would not constitute a major federal action requiring an EIS. The EA to consider a Special Use Permit to Dare County for Activities Related to the Protection of North Carolina Highway 12 is expected to be distributed for public comment summer 2015. The public comment period for the EA and the dates, times, and locations of public meetings will be announced through the NPS Planning, Environment, and Public Comment (PEPC) Web site http://parkplanning.nps.gov/caha the Cape Hatteras National Seashore Web site, and in local media outlets.

The responsible official is the Regional Director, NPS Southeast Region, 100 Alabama Street SW., 1924 Building, Atlanta, Georgia 30303.

Dated: June 1, 2015.
Barclay C. Trimble,
Acting Regional Director, Southeast Region.

[FR Doc. 2015-14426 Filed 6-16-15; 8:45 am]

BILLING CODE 4310-JD-P